DEPARTMENT OF DEFENSE

Department of the Army, Corps of Engineers

Notice of Availability of Record of Decision for the Final Supplemental Environmental Impact Statement for the Allatoona Lake Water Supply Storage Reallocation Study and Updates to Weiss and Logan Martin Reservoir Project Water Control Manuals in the Alabama-Coosa-Tallapoosa River Basin, Alabama and Georgia

AGENCY: Department of the Army, U.S. Army Corps of Engineers, DoD.

ACTION: Notice of availability of the record of decision.

SUMMARY: The U.S. Army Corps of Engineers (USACE) announces the availability of the Record of Decision (ROD) for the Final Integrated Supplemental Environmental Impact Statement for the Allatoona Lake Water Supply Storage Reallocation Study and Updates to Weiss and Logan Martin Reservoir Project Water Control Manuals in the Alabama-Coosa-Tallapoosa River Basin, Alabama and Georgia (FR/SEIS), published in the Federal Register on Friday, November 20, 2020. The Assistant Secretary of the Army for Civil Works signed the ROD on August 27, 2021. Copies of the ROD along with the FR/SEIS and other supporting documents are available for viewing at https://www.sam.usace.army.mil/Missions/Planning-Environmental/Allatoona-Lake-Water-Supply-Storage-Reallocation-Study-and-Updates-to-Weiss-and-Logan-Martin-Reservoirs-Project-Water-Control-Manuals/Document-Library/.

ADDRESSES: U.S. Army Corps of Engineers, Mobile District, Post Office Box 2288, Mobile, AL 36628-0001.

FOR FURTHER INFORMATION CONTACT: Mr. Mike Malsom, Inland Environment Team, Planning and Environmental Division, U.S. Army Corps of Engineer District-Mobile, Post Office Box 2288, Mobile, AL 36628-0001; Telephone (251) 690-2023; delivered by electronic facsimile at (251) 694-3815; or by electronic mail: ACT-ACR@usace.army.mil.

SUPPLEMENTARY INFORMATION: The FR/SEIS includes a water supply storage reallocation study evaluating a March 30, 2018, request by the State of Georgia and the Cobb County-Marietta Water Authority for increased water supply use at Allatoona Lake; a State of Georgia recommended storage accounting method; updated operating criteria and guidelines for managing the water storage and release actions of Federal water managers; Alabama Power Company's (APC) proposed raising of winter pool levels for recreation and lowering the upper limit of the induced surcharge operational pools at Weiss Dam and Lake (Reservoir); and Logan Martin Dam and Lake (Reservoir). USACE will also update the Water Control Manuals (WCMs) for Allatoona Lake and APC's Weiss and Logan Martin Reservoirs, and the Alabama-Coosa-Tallapoosa (ACT) River Basin Master Manual.

A final array of alternatives was considered in detail during the plan formulation process. USACE identified Alternative 11 as the Recommended Plan in the FR/SEIS; however, Alternative 12 was chosen as the Selected Plan and will be implemented. Alternative 11 would have reallocated 33,872 acre-feet (ac-ft) of storage in Allatoona Lake (11,670 ac-ft from flood storage and 22,202 ac-ft from conservation storage) and would have utilized the USACE storage accounting method. The USACE storage accounting method charges all water supply withdrawals to the respective water supply account and credits all inflows, including return flows directly to Allatoona Lake or additive flows released from Hickory Log Creek Reservoir, to all accounts according to their proportion of project yield. Alternative 11 would have also modified flood control storage to the APC projects Weiss Lake and Logan Martin Lake. The Selected Plan (Alternative 12) would reallocate 14,159 ac-ft from conservation storage at Allatoona Lake for water supply storage and utilizes the Georgia preferred storage accounting method in which 100 percent of return flows from Cobb County's water treatment facilities at Allatoona Lake and releases from the upstream Hickory Log Creek Reservoir would be credited to water supply storage accounts. The Selected Plan also includes modified flood control storage to the APC projects' Weiss and Logan Martin Reservoirs (unchanged from Alternative 11).

A summary of environmental consequences for the final array of alternatives is provided in the FR/SEIS. Three of the alternatives (in addition to the no action alternative) were selected for detailed analysis of impacts in accordance with the National Environmental Policy Act; they are Alternative 11 (the Recommended Plan), Alternative 10, and Alternative 3. The other alternatives are variations of these three alternatives, and they would involve similar impacts as one of these three alternatives. The Selected Plan (Alternative 12) is similar to Alternative 10, except that Alternative 12 includes the use of the Georgia preferred storage accounting method. The anticipated environmental consequences of the Selected Plan (Alternative 12) are not significantly different from those anticipated for Alternatives 10 or 11.

The ROD documents why the USACE has chosen to implement Alternative 12 instead of Alternative 11, as described in the FR/SEIS.

Dated: September 1, 2021.
Jason E. Kelly,
Brigadier General, U.S. Army Commanding.

[FR Doc. 2021-19266 Filed 9-3-21; 8:45 am]

BILLING CODE 3720-58-P